INTERNATIONAL TRADE COMMISSION

[Investigation No. 337-TA-1195]

Certain Electronic Candle Products and Components Thereof; Notice of Institution of Investigation

AGENCY: U.S. International Trade Commission.

Action: Notice.

SUMMARY: Notice is hereby given that a complaint was filed with the U.S. International Trade Commission on March 2, 2020, under section 337 of the Tariff Act of 1930, as amended, on behalf of L&L Candle Company LLC of Brea, California, and Sotera Tschetter, Inc. of St. Paul, Minnesota. Supplements to the complaint were filed on March 18 and 20, 2020. The complaint, as supplemented, alleges violations of section 337 based upon the importation into the United States, the sale for importation, and the sale within the United States after importation of certain electronic candle products and components thereof by reason of infringement of certain claims of United States Patent Nos. 8,550,660 (“the '660 patent”), 9,366,402 (“the '402 patent”), 9,512,971 (“the '971 patent”), 9,523,471 (“the '471 patent”), and 10,533,718 (“the '718 patent”). The complaint further alleges that an industry in the United States exists as required by the applicable Federal Statute.

The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on March 30, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-6, 10, 12-15, 17-19, and 28 of the ’660 patent; claims 1-15 of the ’402 patent; claims 1-4, 6-12, 14-18, 20-25, 27, and 28 of the ’971 patent; claims 1-7, 10-14, 17, 18, 22, 24, 25, 27, and 29 of the ’471 patent; and claims 1-5, 7, 8, 10-12, 15, 17, 21, and 22 of the ‘718 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “artificial candles that simulate a flame effect using electronic components”;

(3) For the purpose of the investigation so instituted, the following are hereby named as parties upon which this notice of investigation shall be served:

(a) The complainants are:

L&L Candle Company LLC, 621 Lunar Avenue, Brea, CA 92821

Sotera Tschetter, Inc., 755 Prior Avenue N, St. Paul, MN 55104

(b) The respondents are the following entities alleged to be in violation of section 337, and are the parties upon which the complaint is to be served:

The Gerson Company, 1450 S Lone Elm Road, Olathe, KS 66061

Gerson International (H.K.) Ltd., (CR No. 0880157), Unit 1310, Harbour Center, Tower 1, 1 Hok Cheung Street, Hung Hom, Kowloon, Hong Kong

Sterno Home Inc., 1 Burbidge Street, Suite 101, Coquitlam, BC V3K 7B2, Canada

Ningbo Huamao International Trading Co., Ltd., (ID NO. 91330212058264439W), 17th Floor Heng Fu Building 1, No. 828 Fuming Road, Jiangdong District, Ningbo City, Zhejiang Province 315041, China

Ningbo Yinzhou Langsheng Artware Co., Ltd., No. 3 Langsheng Road, Yinzhou District, Ningbo City, Zhejiang Province 315158, China

Lifetime Brands, Inc., 1000 Stewart Avenue, Garden City, NY 11530

Scott Brothers Entertainment, Inc., 8022 S Rainbow Blvd., Suite 421, Las Vegas, NV 89139

Nantong Ya Tai Candle Arts & Crafts Co., Ltd., 1835 South Del Mar Avenue, #203, San Gabriel, CA 91776

NapaStyIe, Inc., 2650 Napa Valley Corporate Drive, Suite B, Napa, CA 94588

Veraflame International, Inc., 1383 8th Ave. W, Vancouver, BC V6H 3W4, Canada

MerchSource, LLC, 7755 Irvine Center Drive, Irvine, CA 92618

Ningbo Mascube Import Export Company, (ID No. 913302067133149827), No. 58 Dagang Middle Road, Beilun District, Ningbo City, Zhejiang Province 315826, China

Decorware International Inc. dba Decorware Inc., 10220 4th Street, Rancho Cucamonga, CA 91730

Shenzhen Goldenwell Smart Technology Co., Ltd., Room 56, 10F, West Building 2, Saige Technology Industrial Park, Huaqiang North Road, Futian District, Shenzhen City, Guangdong Province 518023, China

Shenzhen Ksperway Technology Co., Ltd., Room 58, 1-7R, 10F, Building 2, Saige Technology Industrial Park, Huaqiang North Road, Futian District, Shenzhen City, Guangdong Province 518023, China

Ningbo Shanhuang Electric Appliance Co., No. 115 Xinggongyi Road, Xinxing Industrial Area, Ninghai County, Ningbo City, Zhejiang Province 315600, China

Yiwu Shengda Art Co., Ltd., (ID No. 913307827429106799), No. 16, Tianji Road, Yinan Industrial Zone, Fotang Town, Yiwu City, Zhejiang Province 322002, China

Shenzhen Tongfang Optoelectronic Technology Co., Ltd., No. 1191 Guanguang Road, Longhua District, Shenzhen City, Guangdong Province 518110, China

TFL Candles, No. 1191 Guanguang Road, Longhua District, Shenzhen City, Guangdong Province 518110, China

Guangdong Tongfang Lighting Co., Ltd., Unit 3312, 33/F, Shui On Center, 6-8 Harbour Road, Wan Chai, Hong Kong, Hong Kong

Tongfang Optoelectric Company, 388 Kwun Tong Road, 7F Standard Chartered Tower, Kwun Tong, Hong Kong, Hong Kong

Virtual Candles Limited, Church Farm, Ulcombe, Maidstone, Kent ME17 IDN, United Kingdom

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 31, 2020.
Lisa Barton,
Secretary to the Commission.

[FR Doc. 2020-07074 Filed 4-3-20; 8:45 am]

BILLING CODE 7020-02-P